DEPARTMENT OF LABOR

Office of the Secretary

Bureau of International Labor Affairs

Notice of Publication of 2011 Update to The Department of Labor's List of Goods From Countries Produced by Child Labor or Forced Labor

AGENCY: Bureau of International Labor Affairs, Department of Labor.

ACTION: Announcement of public availability of updated list of goods.

SUMMARY: This notice announces the publication of an updated list of goods—along with countries of origin—that the Bureau of International Labor Affairs (ILAB) has reason to believe are produced by child labor or forced labor in violation of international standards. ILAB is required to develop and make available to the public the List pursuant to the Trafficking Victims Protection Reauthorization Act (TVPRA) of 2005.

FOR FURTHER INFORMATION CONTACT: Director, Office of Child Labor, Forced Labor, and Human Trafficking, Bureau of International Labor Affairs, U.S. Department of Labor at (202) 693-4843 (this is not a toll-free number).

SUPPLEMENTARY INFORMATION: The Bureau of International Labor Affairs announces the publication of a second update to the List of Goods Produced by Child Labor or Forced Labor (List), pursuant to the TVPRA of 2005. The TVPRA mandated that ILAB develop and publish a list of goods from countries that ILAB “has reason to believe are produced with child labor or forced labor in violation of international standards.” ILAB published the initial List on September 10, 2009, and published its first update on December 15, 2010. This update adds 2 new goods and 1 new country to the List and adds additional products from countries already on the list. With this update, the List has a total of 130 goods from 71 countries.

The primary purposes of the List are to raise public awareness about the incidence of child labor and forced labor in the production of goods in the countries listed and to promote efforts to eliminate such practices. A full report, including the updated List and a discussion of the List's context, scope, methodology, and limitations, as well as Frequently Asked Questions and a bibliography of sources, are available on the DOL Web site at: http://www.dol.gov/ilab/programs/ocft/tvpra.htm.

ILAB's Office of Child Labor, Forced Labor, and Human Trafficking (OCFT) carries out the mandates of section 105(b)(1) of the TVPRA, Public Law 109-164. For complete information on OCFT's TVPRA activities, please visit the Web site listed above.

Previous Federal Register notices issued on this subject include: Notice of Proposed Procedural Guidelines for the Development and Maintenance of the List of Goods From Countries Pursuant to the Trafficking Victims Protection Reauthorization Act of 2005 (72 Fed. Reg. 55808, Oct. 1, 2007); Notice of Procedural Guidelines for the Development and Maintenance of the List of Goods From Countries Produced by Child Labor or Forced Labor; Request for Information (72 FR 73374, Dec. 27, 2007); Notice of Public Hearing To Collect Information To Assist in the Development of the List of Goods From Countries Produced by Child Labor or Forced Labor (73 FR 21985, Apr. 23, 2008); and Notice of Publication of The Department of Labor's List of Goods From Countries Produced by Child Labor or Forced Labor (74 FR 46620, Sept. 10, 2009).

Signed at Washington, DC, this 20th day of September, 2011.
Carol Pier,
Associate Deputy Undersecretary for International Affairs.

[FR Doc. 2011-24625 Filed 9-30-11; 8:45 am]

BILLING CODE 4510-28-P